DEPARTMENT OF LABOR

Employment and Training Administration

[TA-W-65,033]

The Worthington Steel Company of Kentucky, LLC Louisville, KY; Notice of Termination of Investigation

Pursuant to Section 221 of the Trade Act of 1974, as amended, an investigation was initiated on January 29, 2009 in response to a petition filed by a company official on behalf of all workers at The Worthington Steel Company of Kentucky, LLC, Louisville, Kentucky.

The petitioner requested that the petition be withdrawn. Consequently, the investigation has been terminated.

Signed at Washington, DC, this 13th day of March 2009.
Richard Church,
Certifying Officer, Division of Trade Adjustment Assistance.

[FR Doc. E9-6519 Filed 3-24-09; 8:45 am]

BILLING CODE 4510-FN-P